DEPARTMENT OF DEFENSE

Office of the Secretary

[Transmittal No. 23-30]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-30, Policy Justification, and Sensitivity of Technology.

Dated: September 18, 2024.
Aaron T. Siegel,
Alternate OSD Federal Register Liaison Officer, Department of Defense.

BILLING CODE 6001-FR-P

BILLING CODE 6001-FR-C

Transmittal No. 23-30

Notice of Proposed Issuance of Letter of Offer Pursuant to Section 36(b)(1) of the Arms Export Control Act, as amended

(i) Prospective Purchaser: Government of the United Kingdom

(ii) Total Estimated Value:

Major Defense Equipment * | $28.8 million
Other | $ 2.4 million
TOTAL | $31.2 million

(iii) Description and Quantity or Quantities of Articles or Services under Consideration for Purchase:

Major Defense Equipment (MDE):

Seven hundred sixty-eight (768) Advanced Precision Kill Weapon System-II (APKWS-II) All Up Rounds (AURs) (Single Variant)

Non-MDE:

Also included is support equipment; spare and repair parts; publications and technical documentation; transportation; U.S. Government and contractor engineering, technical and logistical support services; and other related elements of logistical and program support.

(iv) Military Department: Navy (UK-P-AIH)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: April 28, 2023

* As defined in Section 47(6) of the Arms Export Control Act.

POLICY JUSTIFICATION

United Kingdom—Advanced Precision Kill Weapon System

The Government of the United Kingdom has requested to buy up to seven hundred sixty-eight (768) Advanced Precision Kill Weapon System-II (APKWS-II) All Up Round (AURs) (Single Variant). Also included is support equipment; spare and repair parts; publications and technical documentation; transportation; U.S. Government and contractor engineering, technical and logistical support services; and other related elements of logistical and program support. The total estimated cost is $31.2 million.

This proposed sale will support the foreign policy goals and national security objectives of the United States by improving the security of a NATO Ally that is a force for political stability and economic progress in Europe.

The proposed sale will improve the United Kingdom's capability to meet current and future threats by ensuring its aviation forces' interoperability with United States and other allied forces as well as its ability to contribute to missions of mutual interest. By deploying the Advanced Precision Kill Weapon System, the United Kingdom would contribute to global readiness and enhance the capability for U.S. forces operating globally alongside them. The United Kingdom will have no difficulty absorbing this equipment into its armed forces.

The proposed sale of this equipment and support will not alter the basic military balance in the region.

The principal contractors will be BAE Systems, Nashua, New Hampshire. There are no known offset agreements proposed in connection with this potential sale.

Implementation of this proposed sale will require multiple trips by approximately five (5) U.S. Government representatives and the assignment of approximately five (5) contractor representatives to the United Kingdom on an intermittent basis for a period of approximately five (5) years to support delivery and integration of items and to provide supply support management, inventory control, and equipment familiarization.

There will be no adverse impact on U.S. defense readiness as a result of this proposed sale.

Transmittal No. 23-30

Notice of Proposed Issuance of Letter of Offer Pursuant to Section 36(b)(1) of the Arms Export Control Act

Annex

Item No. vii

(vii) Sensitivity of Technology:

1. The Advanced Precision Kill Weapon System-II (APKWS-II) is a design conversion of an unguided Hydra 2.75-inch rocket with a laser guidance kit to give it precision-kill capability. As a low cost weapon, it is intended as an inexpensive means to destroy targets while limiting collateral damage in close combat. The APKWS consists of an APKWS-II Guidance Section (GS) developed by BAE systems, legacy 2.75-inch MK66 Mod 4 rocket motor, and a legacy Mk151 and Mk435/436 warhead/fuze. These guided rockets are steered to the target by following reflected laser beam energy directed onto the target either by the launching aircraft, a second aircraft, or ground-based troops operating a laser designator. The APKWS is a tactical rocket system that can be launched from several platforms, including rotary wing, fixed wing, and ground-based vehicles, offering multi-mission, multi-target capability, and precision-strike lethality.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the United Kingdom can provide substantially the same degree of protection for the sensitive technology being released as the U.S. Government. This sale is necessary in furtherance of the U.S. foreign policy and national security objectives outlined in the Policy Justification.

5. All defense articles and services listed in this transmittal have been authorized for release and export to the Government of the United Kingdom.

[FR Doc. 2024-21702 Filed 9-20-24; 8:45 am]

BILLING CODE 6001-FR-P